DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. A Study of Stroke Post-Acute Care and Outcomes—New—The Office of the Assistant Secretary for Planning and Evaluation proposes a study to compare risk-adjusted quality indicators related to care provided across the three post-acute care (PAC) settings. The three settings are skilled nursing facilities, home health agencies and inpatient rehabilitation facilities. Stroke was chosen as a tracer condition for this study because it accounts for approximately 10 percent of all Medicare PAC admissions and because stroke patients are treated in all three PAC settings. Respondents: Individuals, Business or other for-profit; Facility Burden Information—Number of Respondents: 74; Average Burden per Facility: 3.78 hours; Facility Burden: 280 hours—Patient Burden Information—Number of Respondents for Informed Consent: 1347; Average Burden per Response: 10 minutes; Burden for Informed Consent: 225 hours—Number of Respondents for Admission Interview: 1051; Average Burden per Response: 32.8 minutes; Burden for Admission Interview: 575 hours—Number of Respondents for 90-day Follow-up Interview: 919; Average Burden per Response: 28.4 minutes; Burden for 90-day Follow-up Interview: 435 hours—Total Burden: 1,515 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington, DC 20201. Written comments should be received within 30 days of this notice.

Dated: February 21, 2002.
Kerry Weems,
Acting, Deputy Assistant Secretary, Budget.

[FR Doc. 02-4966 Filed 3-1-02; 8:45 am]

BILLING CODE 4154-05-M